EXPORT-IMPORT BANK OF THE U.S.

[Public Notice 110]

Agency Information Collection Activities: Submission for OMB Review; Comment Request

AGENCY: Export-Import Bank of the U.S.

ACTION: Notice and request for comments.

SUMMARY: The Export-Import Bank, as a part of its continuing effort to reduce paperwork and respondent burden, invites the general public and other Federal agencies to comment on the proposed information collection, as required by the Paperwork Reduction Act of 1995. The form will be used by banks to apply for comprehensive or political insurance coverage on foreign banks for letter of credit transactions. Our customers will be able to submit this form on paper or electronically.

DATES: Written comments should be received on or before June 1, 2009 to be assured of consideration.

ADDRESSES: Direct all comments and requests for additional information to Kimberly P. Nelson, Office of Management and Budget, Office of Information and Regulatory Affairs, NEOB, Room 10202, Washington, DC 20503, (202) 395-3787.

SUPPLEMENTARY INFORMATION:

Title and Form Number: Export-Import Bank of the United States Application for Issuing Bank Credit Limit (IBCL) Under Bank Letter of Credit Policy, EIB 92-36.

OMB Number: 3048-0016.

Type of Review: Regular.

Need and Use: The information requested enables the applicant to provide Ex-Im Bank with the information necessary to process credit risk applications involving foreign letter of credit issuing banks.

Affected Public: The form affects entities involved in the export of U.S. goods and services.

Estimated Annual Respondents: 60.

Estimated Time per Respondent: 20 minutes.

Estimated Annual Burden: 240.

Frequency of Reporting or Use: 1 to 12 times per year depending on the particular respondent's need/risk portfolio.

Dated: April 24, 2009.
Solomon Bush,
Agency Clearance Officer.

[FR Doc. E9-9843 Filed 4-29-09; 8:45 am]

BILLING CODE 6690-01-P